DEPARTMENT OF AGRICULTURE

Forest Service

McKelvie Geographic Area Range Allotment Management Planning on the Samuel R. McKelvie National Forest, Bessey Ranger District in Nebraska

AGENCY: Forest Service, USDA.

ACTION: Notice of extension of the public comment period.

SUMMARY: The Bessey Ranger District is extending the public comment period an additional 126 days for the notice of availability published in the Federal Register March 12, 2010 (FR Vol. 75, No. 48, p. 11882) concerning the range allotment management planning on the McKelvie Geographic Area, Samuel R. McKelvie National Forest, Bessey Ranger District in Nebraska. The original notice provided for a comment period to end April 26, 2010. The Forest Service is extending the comment period until September 1, 2010. This project would revise Rangeland Allotment Management Plans (RAMP) for all allotments within the McKelvie Geographic Area on the McKelvie National Forest and analyze continuation of grazing within the constraints of the Revised Nebraska Land and Resource Management Plan (NLRMP).

DATES: Comments must be received in writing by September 1, 2010.

ADDRESSES: Send written comments to: Mark Lane, Interdisciplinary Team Leader, Attention: SRM RAMP, USDA Forest Service, 125 North Main Street, Chadron, Nebraska 69337; via electronic mail to comments-rocky-mountain-nebraska@fs.fed.us.

Please include on the subject line: McKelvie Allotment Management Planning DEIS Comments. The public is not required to send duplicate comments via regular mail when submitting by e-mail. Please confine written comments to issues pertinent to the proposed alternatives of the Draft EIS. All comments, including names and addresses when provided, will be placed in the record will be available for public inspection and copying. Those wishing to inspect comments are encouraged to call ahead to facilitate meeting with the Forest Service.

FOR FURTHER INFORMATION CONTACT: Terry T. Baker, Bessey District Ranger (308) 533-2257 or Mark Lane (308) 432-0323.

SUPPLEMENTARY INFORMATION: Comments received to date and those submitted until September 1, 2010 will provide the public with an opportunity to review and comment on the range allotment management planning on the Samuel R. McKelvie National Forest.

Dated: May 3, 2010.
Terry T. Baker,
District Ranger, Bessey Ranger District, Nebraska National Forest.

[FR Doc. 2010-11466 Filed 5-13-10; 8:45 am]

BILLING CODE 3410-11-M